DEPARTMENT OF ENERGY

Federal Energy Regulatory Commission

[Project No. 1494-197, Oklahoma]

Grand River Dam Authority; Notice of Availability of Environmental Assessment

June 23, 2000.

An environmental assessment (EA) is available for public review. The EA analyzes the environmental impacts of Grand River Dam Authority's (GRDA) application to grant a permit to John W. Mayes (applicant) to install 9 boat docks with 84 slips in Grand Lake O' The Cherokees (Grand Lake), the reservoir for the Pensacola Hydroelectric Project. GRDA's proposed permit would also allow the applicant to dredge about 33,557 cubic yards of sediment to improve boat access from the docks to Grand Lake. The Pensacola Project is on the Grand (Nesho) River in Craig, Delaware, Mayes, and Ottawa Counties, Oklahoma.

The EA was written by staff in the Office of Energy Projects, Federal Energy Regulatory Commission. In the EA, Commission staff conclude that approving GRDA's application to grant the permit would not constitute a major federal action significantly affecting the quality of the human environment. Copies of the EA can be viewed on the web at www.ferc.fed.us/online/rims.htm. Call (202) 208-2222 for assistance. Copies are also available for inspection and reproduction at the Commission's Public Reference Room, located at 888 First Street, NE, Room 2A, Washington, DC 20426, or by calling (202) 208-1371.

Linwood A. Watson, Jr.,
Acting Secretary.

[FR Doc. 00-16424 Filed 6-28-00; 8:45 am]

BILLING CODE 6717-01-M